DEPARTMENT OF EDUCATION

[CFDA No. 84.330B]

Advanced Placement (AP) Test Fee Program

AGENCY: Office of Elementary and Secondary Education (OESE), Department of Education.

ACTION: Notice announcing application deadline.

SUMMARY: Under the AP Test Fee program, we award grants to eligible state educational agencies (SEAs) in order to enable them to pay all or a portion of advanced placement test fees on behalf of eligible low-income students who—(1) Are enrolled in an advanced placement course; and (2) plan to take an advanced placement exam. The program is designed to increase the number of low-income students who take advanced placement tests and receive scores for which college academic credit is awarded. In this notice we establish the deadline for submission of the fiscal year (FY) 2006 AP Test Fee program grant applications.

Applications Available: January 19, 2006.

Application Deadline: February 21, 2006.

Deadline for Intergovernmental Review: April 19, 2006.

SUPPLEMENTARY INFORMATION:

Who Is Eligible for an Award Under the AP Test Fee Program?

Eligible applicants under the AP Test Fee Program are: State educational agencies (SEAs) in any State, including the District of Columbia, the Commonwealth of Puerto Rico, the United States Virgin Islands, Guam, American Samoa, the Commonwealth of the Northern Mariana Islands, the Republic of the Marshall Islands, the Federated States of Micronesia, and the Republic of Palau.

Note: For purposes of this program, the Bureau of Indian Affairs is treated as an SEA.

Note: Current grantees under this program that expect to receive continuation awards in FY 2006, or that expect to have sufficient carryover funds to cover FY 2006 exam fees for eligible low-income students, should not apply for a new award under this competition. Applicants requesting new awards for FY 2006 must submit an application to the Department electronically by the deadline established in this notice.

Funding and Award Information

Estimated Available Funds: $4.8 million.

Estimated Range of Awards: $15,000-$500,000.

Estimated Average Size of Awards: $171,000.

Estimated Number of Awards: 28.

Project Period: 12 months.

Note: The Department is not bound by any estimates in this notice.

Statutory Funding Requirement: In accordance with section 1703 of the Elementary and Secondary Education Act of 1965 as amended (ESEA), the Department gives priority to applications submitted under this competition over applications submitted under the Advanced Placement Incentive program competition (CFDA No. 84.330C).

Award Basis: The Department intends to fund, at some level, all applications that meet the minimum Requirements for Approval of Application as described in the application package for this competition and that demonstrate a need for new or additional funds for FY 2006. Also, in determining whether to approve an application for a new award (including the amount of the award) from an applicant with a current grant under the program, the Department will consider the amount of any remaining carryover funds under the existing grant.

Electronic Submission of Applications: An eligible SEA that seeks FY 2006 funding under the AP Test Fee program must submit its application electronically to the Department on or before the application deadline date. Submission of an electronic application involves the use of the Grants.gov Apply site.

You can access the electronic application, along with complete instructions for applying via Grants.gov, for the AP Test Fee program at: http://www.Grants.gov/. Once you access this site, you will receive specific instructions for completing your application and the electronic submission process. You must follow these requirements to ensure that your application is received by the Department no later than 4:30 p.m., Washington, DC, time, on the application deadline date.

FOR FURTHER INFORMATION CONTACT: Ms. Madeline Baggett or Ms. Lynyetta Johnson, 400 Maryland Ave., SW., Washington, DC 20202-6200. Telephone: (202) 260-2502 or (202) 260-1990 or via Internet: advancedplacementprogram@ed.gov.

If you use a telecommunications device for the deaf (TDD), you may call the Federal Relay Service (FRS) at 1-800-877-8339. Individuals with disabilities may obtain this notice in an alternative format (e.g., Braille, large print, audiotape, or computer diskette) on request to the contact person listed under FOR FURTHER INFORMATION CONTACT.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 6531-6537.

Dated: January 13, 2006.
Henry L. Johnson,
Assistant Secretary for Elementary and Secondary Education.

[FR Doc. E6-582 Filed 1-18-06; 8:45 am]

BILLING CODE 4000-01-P